ENVIRONMENTAL PROTECTION AGENCY

[FRL-6848-6]

Office of Research and Development; Ambient Air Monitoring Reference and Equivalent Methods; Receipt of Application for a Reference or Equivalent Method Determination

AGENCY: Environmental Protection Agency.

ACTION: Notice of receipt of application.

SUMMARY: The Environmental Protection Agency (EPA) is announcing that it has received an application for a reference or equivalent method determination from Grimm Technologies, Incorporated (Douglasville, Georgia) for Grimm Technologies' ENVIROcheck Model 107 PM10 air monitoring method.

FOR FURTHER INFORMATION CONTACT: David B. Gemmill, Human Exposure and Atmospheric Sciences Division (MD-46), National Exposure Research Laboratory, U.S. EPA, Research Triangle Park, North Carolina 27711. Phone: (919) 541-1516, email: gemmill.david@epamail.epa.gov.

SUPPLEMENTARY INFORMATION: Upon application and in accordance with regulations at 40 CFR part 53, the EPA examines various methods for monitoring the concentrations of certain pollutants in the ambient air. Methods that are determined to meet specific requirements for adequacy are designated as either reference or equivalent methods, thereby permitting their use under 40 CFR part 58 by States and other agencies for determining attainment of the National Ambient Air Quality Standards. As required by part 53, this notice is to announce that EPA has received an application to determine if a new monitoring method for PM10 should be designated by the Administrator of the EPA as a reference or equivalent method under 40 CFR part 53.

An application from Grimm Technologies, Incorporated, 9110 Charlton Place, Douglasville, Georgia was received on April 10, 2000, for a reference or equivalent method determination for Grimm Technologies' ENVIROcheck Model 107 PM¹⁰ air monitoring analyzer.

If, after appropriate technical study, the Administrator determines that this method should be designated as a reference or equivalent method, as appropriate, notice thereof will be published in a subsequent issue of the Federal Register.

Norine E. Noonan,
Assistant Administrator for Research and Development.

[FR Doc. 00-20124 Filed 8-8-00; 8:45 am]

BILLING CODE 6560-50-U